COMMITTEE FOR PURCHASE FROM PEOPLE WHO ARE BLIND OR SEVERELY DISABLED

Procurement List; Additions and Deletion

AGENCY: Committee for Purchase From People Who Are Blind or Severely Disabled.

ACTION: Additions to and Deletion from the Procurement List.

SUMMARY: This action adds to the Procurement List a product and services to be furnished by nonprofit agencies employing persons who are blind or have other severe disabilities, and deletes from the Procurement List a service previously furnished by such agencies.

Effective Date: July 20, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On March 28, April 18 and April 25, 2008 the Committee for Purchase From People Who Are Blind or Severely Disabled published notice (73 FR16639; 21107; 22324) of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Bag, Fecal Incontinent

NSN: 6530-00-NSH-0045—Large

NPA: Work, Inc., North Quincy, MA

Coverage: C-List for the requirement of the Department of Veterans Affairs, National Acquisition Center, Hines, IL

Contracting Activity: Department of Veterans Affairs, National Acquisition Center, Hines, IL

Services

Service Type/Location: Custodial Services, Andersen Air Force Base, Basewide, APO AP, GU.

NPA: Able Industries of the Pacific, Santa Rita, GU.

Contracting Activity: U.S. Air Force, Anderson Air Force Base, 36th Contracting Squadron, APO AP, GU.

Service Type/Location: Mailroom Operations, Immigration & Customs Enforcement, 1100 Center Parkway (Camp Creek Business Center), 180 Spring Street, 2150 Park Lake Drive, Atlanta, GA.

NPA: WORKTEC, Jonesboro, GA.

Contracting Activity: U.S. Department of Homeland Security, Immigration and Customs Enforcement, Washington, DC.

Deletion

On April 11, 2008, the Committee for Purchase From People Who Are Blind or Severely Disabled published notice (73 FR19808) of proposed deletions to the Procurement List.

After consideration of the relevant matter presented, the Committee has determined that the service listed below are no longer suitable for procurement by the Federal Government under41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the services to the Government.

3. There are no known regulatory alternatives which would accomplish the objectives of the Javits-Wagner-O'Day Act (41 U.S.C. 46-48c) in connection with the service deleted from the Procurement List.

End of Certification

Accordingly, the following service is deleted from the Procurement List:

Service:

Service Type/Location: Janitorial/Custodial, Curlew Conservation Center, Colville National Forest, Curlew, WA.

NPA: Ferry County Community Services, Republic, WA.

Contracting Activity: U.S. Department of Agriculture, Colville National Forest, Colville, WA.

Kimberly M. Zeich,
Director, Program Operations.

[FR Doc. E8-14026 Filed 6-19-08; 8:45 am]

BILLING CODE 6353-01-P